DEPARTMENT OF COMMERCE

International Trade Administration

[A-489-501]

Antidumping Administrative Review: Certain Welded Carbon Steel Pipe and Tube From Turkey

AGENCY: Import Administration, International Trade Administration, Department of Commerce.

ACTION: Notice of final results of antidumping duty administrative review: certain welded carbon steel pipe and tube from Turkey.

SUMMARY: On April 6, 2004, the Department of Commerce (the Department) published the preliminary results of its administrative review of the antidumping duty order on certain welded carbon steel pipe and tube (welded pipe) from Turkey. This review covers one producer/exporter of the subject merchandise. The period of review (POR) is May 1, 2002, through April 30, 2003. Based on our analysis of the comments received, these final results differ from the preliminary results. The final results are listed below in the Final Results of Review section.

DATES: Effective August 11, 2004.

FOR FURTHER INFORMATION CONTACT: Martin Claessens or Jim Terpstra, Office 3, AD/CVD Enforcement, Import Administration, International Trade Administration, U.S. Department of Commerce, 14th Street and Constitution Avenue, NW., Washington, DC 20230; telephone: (202) 482-5451 and (202) 482-3965, respectively.

SUPPLEMENTARY INFORMATION:

Background

This review covers the Borusan Group (Borusan), a producer/exporter of the subject merchandise. On April 6, 2004, the Department published the preliminary results of this review and invited interested parties to comment on those results. See Notice of Preliminary Results of Antidumping Administrative Review: Certain Welded Carbon Steel Pipe and Tube from Turkey, 69 FR 18049 (Preliminary Results). On May 6, 2004, we received case briefs from Borusan and domestic interested parties.¹ On May 13, 2004, we received rebuttal briefs from the same parties. No public hearing was requested.

¹ Domestic Interested Parties are Allied Tube & Conduit Corporation, IPSCO Tubulars, Inc., and Wheatland Tube Company.

Scope of the Order

The products covered by this order include circular welded non-alloy steel pipes and tubes, of circular cross-section, not more than 406.4 millimeters (16 inches) in outside diameter, regardless of wall thickness, surface finish (black, or galvanized, painted), or end finish (plain end, beveled end, threaded and coupled). Those pipes and tubes are generally known as standard pipe, though they may also be called structural or mechanical tubing in certain applications. Standard pipes and tubes are intended for the low pressure conveyance of water, steam, natural gas, air, and other liquids and gases in plumbing and heating systems, air conditioner units, automatic sprinkler systems, and other related uses. Standard pipe may also be used for light load-bearing and mechanical applications, such as for fence tubing, and for protection of electrical wiring, such as conduit shells.

The scope is not limited to standard pipe and fence tubing, or those types of mechanical and structural pipe that are used in standard pipe application. All carbon steel pipes and tubes within the physical description outlined above are included in the scope of this review, except for line pipe, oil country tubular goods, boiler tubing, cold-drawn or cold-rolled mechanical tubing, pipe and tube hollows for redraws, finished scaffolding, and finished rigid conduit.

Imports of these products are currently classifiable under the following Harmonized Tariff Schedule of the United States (HTSUS) subheadings: 7306.30.10.00, 7306.30.50.25, 7306.30.50.32, 7306.30.50.40, 7306.30.50.55, 7306.30.50.85, and 7306.30.50.90. Although the HTSUS subheadings are provided for convenience and customs purposes, our written description of the scope of this proceeding is dispositive.

Analysis of Comments Received

All issues raised in the case and rebuttal briefs by parties to this review are addressed in the “Issues and Decision Memorandum for the Final Results of the Administrative Review of the Antidumping Duty Order on Certain Welded Carbon Steel Pipe and Tube from Turkey” from Jeffrey May, Deputy Assistant Secretary for Operations, Import Administration, to James J. Jochum, Assistant Secretary for Import Administration, dated August 4, 2004 (Decision Memorandum), which is hereby adopted by this notice.

A list of the issues which parties have raised and to which we have responded, all of which are addressed in the Decision Memorandum, is attached to this notice as an Appendix. Parties can find a complete discussion of all issues raised in this review and the corresponding recommendations in this public memorandum, which is on file in the Central Records Unit, room B-099 of the main Commerce building.

In addition, a complete version of the Decision Memorandum can be accessed directly on the Internet at http://ia.ita.doc.gov/frn. The paper copy and electronic version of the Decision Memorandum are identical in content.

Fair Value Comparisons

We calculated export price (EP) and normal value (NV) based on the same methodology used in the preliminary results, except for minor clerical error changes, which are detailed in the Decision Memorandum.

Cost of Production

We calculated the cost of production (COP) for the merchandise based on the same methodology used in the preliminary results, except for the calculation of Borusan's financial expense ratio. We have now included foreign exchange gains and losses on accounts receivable in Borusan's financial expense ratio. See Decision Memorandum.

Final Results of Review

As a result of our review, we determine that the following weighted-average percentage margin exists for the period May 1, 2002, through April 30, 2003:

Manufacturer/Exporter | Margin (percent)
Borusan | 1.48

The Department shall determine, and the U.S. Customs and Border Protection (CBP) shall assess, antidumping duties on all appropriate entries. In accordance with section 351.212(b)(1) of the Department's regulations, we have calculated importer-specific assessment rates by dividing the dumping margin found on the subject merchandise examined by the entered value of such merchandise. Where the importer-specific assessment rate is above de minimis we will instruct CBP to assess antidumping duties on that importer's entries of subject merchandise. The Department will issue appropriate assessment instructions directly to CBP within 15 days of publication of these final results of review.

Furthermore, the following deposit requirements will be effective for all shipments of the subject merchandise entered, or withdrawn from warehouse, for consumption on or after the publication date of these final results of administrative review, as provided by section 751(a) of the Tariff Act of 1930, as amended (the Act): (1) For the company named above, the cash deposit rate will be the rate listed above, except where the margin is zero or de minimis no cash deposit will be required; (2) for merchandise exported by manufacturers or exporters not covered in this review but covered in a previous segment of this proceeding, the cash deposit rate will continue to be the company-specific rate published in the most recent final results in which that manufacturer or exporter participated; (3) if the exporter is not a firm covered in this review or in any previous segment of this proceeding, but the manufacturer is, the cash deposit rate will be that established for the manufacturer of the merchandise in these final results of review or in the most recent segment of the proceeding in which that manufacturer participated; and (4) if neither the exporter nor the manufacturer is a firm covered in this review or in any previous segment of this proceeding, the cash deposit rate will be 14.74 percent, the all-others rate established in the less-than-fair-value investigation. These deposit requirements shall remain in effect until publication of the final results of the next administrative review.

This notice also serves as a final reminder to importers of their responsibility under § 351.402(f) of the Department's regulations to file a certificate regarding the reimbursement of antidumping and countervailing duties prior to liquidation of the relevant entries during this review period. Failure to comply with this requirement could result in the Secretary's presumption that reimbursement of antidumping and countervailing duties occurred, and in the subsequent assessment of antidumping duties increased by the amount of antidumping and/or countervailing duties reimbursed.

This notice also is the only reminder to parties subject to administrative protective order (APO) of their responsibility concerning the return/destruction or conversion to judicial protective order of proprietary information disclosed under APO in accordance with § 351.305(a)(3) of the Department's regulations. Failure to comply is a violation of the APO.

This determination is issued and published in accordance with sections 751(a)(1) and 777(i)(1) of the Act.

Dated: August 4, 2004.
Joseph A. Spetrini,
Acting Assistant Secretary for Import Administration.

Appendix—List of Comments in the Issues and Decision Memorandum

Comment 1: Exchange Rates

Comment 2: Programming Errors

Comment 3: Cash Deposit Instructions

Comment 4: Duty Drawback

Comment 5: Financial Expense Ratio

Comment 6: Valuation of Hot-Rolled Coil Inputs Purchased from Affiliates

[FR Doc. 04-18393 Filed 8-10-04; 8:45 am]

BILLING CODE 3510-DS-P